DEPARTMENT OF DEFENSE

Department of the Army, Corps of Engineers

Notice of Intent To Prepare a Draft Environmental Impact Statement for the South Central Coast Louisiana Flood Risk Management Feasibility Study

AGENCY: Department of the Army, U.S. Army Corps of Engineers, DoD.

ACTION: Notice of intent.

SUMMARY: Pursuant to the National Environmental Policy Act (NEPA), the U.S. Army Corps of Engineers (USACE), New Orleans District intends to prepare a Draft Integrated Feasibility Report and Environmental Impact Statement (DIFR-EIS) for the Draft Environmental Impact Statement (DEIS) to assess the potential social, economic, and environmental impacts associated with the proposed project titled, South Central Coast Louisiana Flood Risk Management Feasibility Study. The DIFR-EIS documents the existing condition of environmental resources in and around areas considered for development, and potential impacts on those resources as a result of implementing the alternatives.

ADDRESSES: Questions or comments about the proposed action or requests to be added to the project mailing list should be directed to Ms. Carrie Schott, CEMVN-PM-B, U.S. Army Corps of Engineers, New Orleans District, 7400 Leake Avenue, New Orleans, LA 70118, email, Southcentralcoaststudy@usace.army.mil. Comments may also be entered at the following web page: https://www.mvn.usace.army.mil/South-Central-Coast/.

FOR FURTHER INFORMATION CONTACT: Ms. Carrie Schott, (504) 862-1153.

SUPPLEMENTARY INFORMATION: The lead agency for this proposed action is the USACE. The Louisiana Coastal Protection and Restoration Authority (CPRA) is the non-Federal sponsor.

1. Authority. The USACE is preparing the DIFR-EIS study under the standing authority of Bipartisan Budget Act of 2018, (Pub. L. 115-123), Division B, Subdivision 1, H. R. 1892—13, Title IV, Corps Of Engineers—Civil, Department Of The Army, Investigations, and H.R. Docket 2767, 20 Sep 2006, Southeast Coastal Louisiana, LA, Resolved by the Committee on Transportation and Infrastructure of the United States House of Representatives. The Bipartisan Budget Act authorizes the USACE proposed South Central Coast Louisiana Flood Protection and Coastal Storm Risk Management Project planning and potential construction project. The study phase is 100% federally funded.

2. Background. The study area encompasses the Louisiana coastal parishes of Iberia, St Mary, and St Martin. The study area has experienced repetitive storm events including Hurricanes Rita, Ike, Gustav, and Andrew, resulting in loss of life, wildlife, and property, and repeated mandatory evacuation costs. This report will present the proposed alternatives resulting in risk of storm damage reduction to industries and businesses critical to the Nation's economy and protect the health and safety of Louisiana coastal communities.

The study area needs increased sustainability and resiliency to flood events for the affected communities. In addition, the study area's topography, low elevation, proximity to the Gulf of Mexico, subsiding lands, and rising seas, are all contributing factors causing coastal flooding, shoreline erosion and loss of wetlands. Without additional storm damage reduction measures, the people, economy, environment, and cultural heritage of coastal areas in South Central Louisiana are at risk from reoccurring damages caused by hurricane storm surge flooding and riverine flooding.

The USACE will analyze numerous issues in the DEIS related to the effects of any proposed storm damage reduction measures. These issues will include, but will not be limited to, the following: Continued wetlands losses impacting migratory species, the ecological nurseries of the Gulf of Mexico, and various commercial and recreational activities.

The USACE will focus their analysis on the following resources: Aesthetics and visual resources, water quality and salinity aquatic resources/wetlands, invasive plant species fish and wildlife resources, threatened/endangered species and other protected species of concern, cultural & historic resources and tribal trust resources, floodplains, hazardous, toxic & radioactive waste, hydrology, land use, navigation and public infrastructure, socio-economics, environmental justice, soils, sustainability, greening and climate change.

3. Alternatives. The USACE will evaluate a range of alternatives for the proposed action including structural and nonstructural measures. For the reasonable and practicable alternatives, the USACE will fully evaluate them, including the no action alternative. Alternatives may result in avoidance and minimization, and mitigation measures of impacts to reduce or offset any impacts.

Structural measures would include wave attenuation measures adjacent to each measure or closer to the coastal shoreline. Structural measures recommended for consideration currently include:

• Structural Measure 1: State Alignment A.

• Structural Measure 2: State Alignment B.

• Structural Measure 3: Rail Road Alignment.

• Structural Measure 4: Existing Levee Improvements.

• Structural Measure 5: Ring Levees.

The USACE is also considering nonstructural measures. These include:

• Non-structural Measure 1: Buyouts.

• Non-structural Measure 2: Wet proofing

• Non-structural Measure 3: Dry proofing.

4. Public Involvement. Public involvement, an essential part of the NEPA process, is integral to assessing the environmental consequences of the proposed action and improving the quality of the environmental decision making. The public includes affected and interested Federal, state, and local agencies, Indian tribes, concerned citizens, stakeholders, and other interested parties. Public participation in the NEPA process is strongly encouraged, both formally and informally, to enhance the probability of a more technically accurate, economically feasible, and socially acceptable EIS. Public involvement includes, but is not limited to: Information dissemination; identification of problems, needs, and opportunities; idea generation; public education; problem solving; providing feedback on proposals; evaluation of alternatives; conflict resolution; public and scoping notices and meetings; public, stakeholder, and advisory groups consultation and meetings; and making the EIS and supporting information readily available in conveniently located places, such as libraries and on the world wide web.

5. Scoping. Scoping, an early and open process for identifying the scope of significant issues related to the proposed action to be addressed in the EIS, will be used to: (a) Identify the affected public and agency concerns; (b) facilitate an efficient EIS preparation process; (c) define the issues and alternatives examined in detail in the EIS; and (d) save time in the overall process by helping to ensure the draft EIS adequately addresses relevant issues.

All interested parties are invited to comment at this time, and anyone interested in the DIFR-DEIS should request to be included on the distribution list. The scoping period will extend for 45 days after the date of this Notice of Intent publication. Comments should be as specific as possible. Additional public involvement will be sought through the implementation of the public involvement plan and the agency coordination team. Comments may be mailed, emailed or entered at: https://www.mvn.usace.army.mil/South-Central-Coast/.

A Scoping Meeting Notice announcing the locations, dates and times for scoping meetings is anticipated to be posted on the project website, https://www.mvn.usace.army.mil/South-Central-Coast/ and through various advertising avenues widely available to the public no later than 15 days prior to the meeting dates.

6. Environmental Consultation and Review. The USACE will serve as the lead Federal agency in the preparation of the DIFR-DEIS. Other Federal and/or state agencies may participate as cooperating and/or commenting agencies throughout the study process. The U.S. Fish and Wildlife Service (USFWS) will assist in documenting existing conditions and assessing effects of project alternatives through the Fish and Wildlife Coordination Act consultation procedures. In addition, because the proposed project may affect federally listed species, the USACE will consult with the USFWS and the National Marine Fisheries Service (NMFS) in accordance with the Endangered Species Act, Section 7. The USACE will consult the NMFS regarding the effects of the project on Essential Fish Habitat per the Magnuson-Stevens Fishery Conservation and Management Act. The USACE will consult with affected Federally Recognized Tribes. Other environmental review and consultation requirements for the proposed project include the need for Louisiana Department of Environmental Quality Clean Water Act Section 401 water quality certification and Clean Air Act coordination. The USACE will consult with the State Historic Preservation Officer under National Historic Preservation Act, Section 106, concerning properties listed or potentially eligible for listing. The USACE will coordinate with the Louisiana Department of Natural Resources for coastal zone management consistency per the Coastal Zone Management Act.

7. Availability. The USACE currently estimates the DIFR-DEIS will be available for public review and comment in December 2019. At that time, the USACE will provide a 45-day public review period for individuals and agencies to review and comment. The USACE will notify all interested agencies, organizations, and individuals of the availability of the draft document at that time.

Brenda S. Bowen,
Army Federal Register Liaison Officer.

[FR Doc. 2019-06355 Filed 4-1-19; 8:45 am]

BILLING CODE 3720-58-P